DEPARTMENT OF TRANSPORTATION

Maritime Administration

[Docket No. MARAD-2019-0155]

Request for Comments on a New Information Collection

AGENCY: Maritime Administration, Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on October 7, 2019.

DATES: Comments must be submitted on or before February 20, 2020.

ADDRESSES: Send comments regarding the burden estimate, including suggestions for reducing the burden, to the Office of Management and Budget, Attention: Desk Officer for the Office of the Secretary of Transportation, 725 17th Street NW, Washington, DC 20503.

FOR FURTHER INFORMATION CONTACT: Robert Bouchard, 202-366-5076, Office of Infrastructure Development and Congestion Mitigation, Maritime Administration, 1200 New Jersey Avenue, SE Washington, DC 20590. Email: Robert.Bouchard@dot.gov.

SUPPLEMENTARY INFORMATION:

Title: Port Infrastructure Development Program.

OMB Control Number: 2133-NEW.

Type of Request: New Information Collection.

Background: A Federal Register Notice with a 60-day comment period soliciting comments on the information collection was published on October 7, 2019. One comment was received in response to the Notice. The commenter recommended that harmful materials not be allowed or permitted to be transferred under this program. In response, the Maritime Administration will implement the program in accordance with the eligibility requirements as provided in the statute.

On February 15, 2019, the President signed the Consolidated Appropriations Act, 2019 (FY 2019 Appropriations Act), and on December 20, 2019 the President signed the Further Consolidated Appropriations Act 2020 (FY 2020 Appropriations Act), to make grants to improve port facilities as authorized under section 50302 of title 46, to be awarded by the U.S. Department of Transportation (Department) for the Port Infrastructure Development Program (Program). These appropriations acts allow the Department to make discretionary grants to improve port facilities. This Program supports the Department of Transportation (DOT) strategic goal of infrastructure investment to ensure safety and to stimulate economic growth, productivity and competitiveness for American workers and businesses. DOT seeks to work effectively with State, local, Tribal, and private partners to guide investments that stimulate economic growth, improve the condition of transportation infrastructure, and enable the efficient and safe movement of people and goods. To achieve this goal, DOT will provide guidance, technical assistance, and research that leverages Federal funding, accelerates project delivery, reduces project lifecycle costs, and optimizes the operation and performance of existing facilities. By using innovative forms of project delivery, encouraging partnerships between the public and private sectors, and strategically balancing investments across various modes of transportation to promote greater efficiencies, DOT can maximize the returns to the Nation's economy and people.

Respondents: 250.

Affected Public: State, Local, or Tribal Government.

Total Estimated Number of Responses: 250.

Frequency of Collection: Annually.

Estimated Time per Respondent: 160.

Total Estimated Number of Annual Burden Hours: 40,000.

Public Comments Invited: Comments are invited on whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. chapter 35, as amended; and 49 CFR 1.93.)

* * * * *

Dated: January 15, 2020.
By Order of the Maritime Administrator.
T. Mitchell Hudson, Jr.,
Secretary, Maritime Administration.

[FR Doc. 2020-00836 Filed 1-17-20; 8:45 am]

BILLING CODE 4910-81-P